DEPARTMENT OF COMMERCE

Foreign-Trade Zones Board

Docket 42-2006

Foreign-Trade Zone 61 - San Juan, Puerto Rico Application for Expansion

An application has been submitted to the Foreign-Trade Zones Board (the Board) by the Puerto Rico Trade and Export Company, grantee of FTZ 61, requesting authority to expand FTZ 61 in the San Juan, Puerto Rico, area, adjacent to the San Juan Customs port of entry. The application was submitted pursuant to the provisions of the Foreign-Trade Zones Act, as amended (19 U.S.C. 81a-81u), and the regulations of the Board (15 CFR Part 400). It was formally filed on November 3, 2006.

FTZ 61 was approved on October 20, 1980 (Board Order No. 165, 45 FR 71408, 10/28/80). The zone project currently consists of the following sites: Site 1 (60 acres)-located within the 203-acre International Trade Center, at Highway 165, km. 2.4, Guaynabo; Temporary Site 2 (3 acres, 117,270 sq. ft.)-warehouse facilities within the Centro Mercantil Internacional (CMI) complex, West Street, Guaynabo (expires 1/31/07); Temporary Site 3 (14 acres)-warehouse facilities, located at Highway 22 and J.F. Kennedy Avenue, km. 3.9, San Juan (expires 11/1/08); and, Temporary Site 4 (5 acres)-North Distribution Center (Able Sales warehouse), located at PR Highway 869, km.1.1, Catano (expires 3/1/07).

The applicant is requesting authority to expand Site 1 to include additional acreage and to include 11 additional sites in the San Juan area: Expand Site 1 to include an additional 184 acres in Guaynabo-Parcel A (180 acres)-International Trade Center Grounds, Highway 165, km. 2.4 (which will include the existing 60-acre site); Parcel B (42 acres)-tract of undeveloped land, intersection of State Road 22 and State Road 28; Parcel C (12 acres)-tract of developed land, at Highway 28 and Cano Avenue; Parcel D (5acres)-Amelia Distribution Center, intersection of Highway 165 and Calle Amelia; Parcel E (5 acres)-warehouse building, within the Centro Mercantil Internacional Complex, West Street, at the International Trade Center Grounds (which will include Temporary Site 2 on a permanent basis) (new total-244 acres); Proposed Site 2 (11 acres)-North Distribution Center, located at km. 1.1 on Highway 869, Cata o (which will include Temporary Site 4 on a permanent basis); Proposed Site 3 (15 acres)-Cata o Equipment and Storage Complex, intersection of Highway 165 and Las Palmas Avenue, Catano; Proposed Site 4 (2 acres)-Bayamon Logistics, Storage and Distribution Center, intersection of Calle C and Highway 28, Bayamon; Proposed Site 5 (3 acres)-Corujo Industrial Park, located at Road 866, Km. 1.7, Hato Tejas; Proposed Site 6 (4 acres)-warehouse facilities located on the north side of Highway 2, one mile east of Highway 165, Toa Baja; Proposed Site 7 (2 acres)-Baldioroty de Castro Warehouse and Distribution Center, located at intersection of km 10.3, Marginal de la Avenida de Baldioroty de Castro, Carolina; Proposed Site 8 (5 acres)-Manati chemical warehouse, intersection of Highways 686 and 670, Manati; Proposed Site 9 (7 acres)-warehouse facilities located at km. 28.6 on Highway 1, Caguas; Proposed Site 10 (14 acres)-storage complex at J.F. Kennedy Avenue and km 3.9, San Juan (which will include Temporary Site 3 on a permanent basis); Proposed Site 11 (32 acres)-Mayaguez Regional Distribution Center, located at 201 Algarrobo Avenue, Mayaguez; and, Proposed Site 12 (310 acres, 2 parcels)-Yabucoa Industrial Park, at the intersection of Highway 901 and Highway 53, Yabucoa. No specific manufacturing requests are being made at this time. Such requests would be made to the Board on a case-by-case basis.

In accordance with the Board's regulations, a member of the FTZ Staff has been designated examiner to investigate the application and report to the Board.

Public comment on the application is invited from interested parties. Submissions (original and 3 copies) shall be addressed to the Board's Executive Secretary at the address below. The closing period for their receipt is January 16, 2007.

Rebuttal comments in response to material submitted during the foregoing period may be submitted during the subsequent 15-day period (to January 29, 2007).

A copy of the application and accompanying exhibits will be available for public inspection at each of the following locations: U.S. Department of Commerce, 420 Ponce de Leon Avenue, Midtown Bldg., 10th Fl., San Juan, Puerto Rico 00918; and, Office of the Executive Secretary, Foreign-Trade Zones Board, Room 1115, U.S. Department of Commerce, 1401 Constitution Avenue, NW., Washington, DC 20230.

Dated: November 3, 2006.
Pierre V. Duy,
Acting Executive Secretary.

[FR Doc. E6-19301 Filed 11-14-06; 8:45 am]

Billing Code: 3510-DS-S